DEPARTMENT OF ENERGY

Federal Energy Regulatory Commission

[Docket No. CP01-160-001]

Northwest Alaskan Pipeline Company; Notice of Filing

July 19, 2001.

Take notice that on June 4, 2001, Northwest Alaskan Pipeline Company (Northwest Alaskan) submitted for filing a Notice of Termination of its entire FERC Gas Tariff, Original Volume No. 2. Northwest Alaskan states that it has entered into agreements with its only jurisdictional customer, Pan-Alberta Gas (U.S.) Inc. , to terminate their gas purchase agreements, subject to the receipt of all necessary regulatory approvals. Northwest Alaskan requests that the Notice of Termination become effective on the day after the day on which the parties close their transaction. Northwest Alaskan states that the parties anticipate closing the transaction on or before June 30, 2001, and that Northwest Alaskan will notify the Commission when the closing has occurred. In the event that the proposed effective date falls less than 30 days after the date of the instant filing, Northwest Alaskan requests waiver of 18 CFR 154.602 to permit the Notice of Termination to become effective as proposed.

Northwest Alaskan states that it is serving copies of the instant application on its affected customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18484 Filed 7-24-01; 8:45 am]

BILLING CODE 6717-01-P